DEPARTMENT OF COMMERCE

National Oceanic and Atmospheric Administration

50 CFR Part 660

[Docket No. 180625576-8999-02]

RIN 0648-BJ95

Magnuson-Stevens Act Provisions; Fisheries Off West Coast States; Pacific Coast Groundfish Fishery; 2019-2020 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial groundfish fisheries. This action is intended to allow commercial fishing vessels to access more abundant groundfish stocks while protecting overfished and depleted stocks.

DATES: This final rule is effective July 20, 2020.

FOR FURTHER INFORMATION CONTACT: Karen Palmigiano, phone: 206-526-4491 or email: karen.palmigiano@noaa.gov.

Electronic Access

This rule is accessible via the internet at the Office of the Federal Register website at https://www.federalregister.gov. Background information and documents are available at the Pacific Fishery Management Council's website at http://www.pcouncil.org/.

SUPPLEMENTARY INFORMATION:

Background

The Pacific Coast Groundfish Fishery Management Plan (PCGFMP) and its implementing regulations at 50 CFR part 660, subparts C through G, regulate fishing for over 90 species of groundfish off the coasts of Washington, Oregon, and California. The Pacific Fishery Management Council (Council) develops groundfish harvest specifications and management measures for two-year periods (i.e., a biennium). NMFS published the final rule to implement harvest specifications and management measures for the 2019-2020 biennium for most species managed under the PCGFMP on December 12, 2018 (83 FR 63970).

Pacific Coast groundfish fisheries are managed using harvest specifications or limits (e.g., overfishing limits [OFL], acceptable biological catch [ABC], annual catch limits [ACL] and harvest guidelines [HG]) based on the best scientific information available at that time (50 CFR 660.60(b)). The harvest specifications and mitigation measures developed for the 2019-2020 biennium used data through the 2017 fishing year. In general, the management measures (e.g., trip limits, area closures, and bag limits) set at the start of the biennial harvest specifications cycle help catch in the various sectors of the fishery reach, but not exceed, the limits for each stock. The Council, in coordination with Pacific Coast Treaty Indian Tribes and the States of Washington, Oregon, and California, recommends adjustments to the management measures during the fishing year to achieve this goal. At its June 10-19, 2020 meeting, the Council recommended increasing the limited entry fixed gear (LEFG) and open access (OA) trip limits for bocaccio south of 40°10′ North latitude (N lat.). Each of the adjustments discussed below are based on updated fisheries information that was unavailable when the Council completed the initial analysis for the current harvest specifications.

Bocaccio is managed with stock-specific harvest specifications south of 40°10′ N lat. and within the Minor Shelf Rockfish complex north of 40°10′ N lat. NMFS declared bocaccio overfished in 1999, and implemented a rebuilding plan for the stock in 2000. NMFS declared bocaccio officially rebuilt in 2017, and implemented new, higher catch limits for the first time in 2019. For example, the ACL for bocaccio increased from 741 metric tons (mt) in 2018 to 2,097 mt in 2019. For 2020, the bocaccio ACL south of 40°10′ N lat. is 2,011 mt with a fishery HG of 1,965 mt. The non-trawl allocation is 1,197.8 mt.

At the June 2020 Council meeting, members of the Groundfish Advisory SubPanel (GAP) notified the Council and the Groundfish Management Team (GMT) of increased interactions with bocaccio and the desire for higher trip limits to reduce the need to discard. The most recent bocaccio attainment estimates for 2020 suggest that around 13.5 percent or 162.1 mt of bocaccio will be attained by the non-trawl sector out of the 1,197.8 mt non-trawl allocation for south of 40°10′ N lat., the GAP requested the GMT examine potential increases to the bocaccio trip limits for the LEFG and OA sectors south of 40°10′ N lat.

To assist the Council in evaluating potential trip limit increases for the LEFG and OA sectors targeting bocaccio south of 40°10′ N lat., the GMT analyzed projected attainment under the current status quo trip limits and increased trip limits (Table 1).

Table 1—Status Quo and Proposed Increased LEFG and OA Trip Limits for Bocaccio South of 40°10′ N lat
Option | Sector | Geographic area | Jan-Feb | Mar-Apr | May-Jun | Jul-Aug | Sep-Oct | Nov-Dec
Option 1: Status Quo Trip Limits | LE | 40°10′ to 34°27′ N lat | 1,500 lb (680 kg)/2 months
| LE | South of 34°27′ N lat | 1,500 lb (680 kg)/2 months | CLOSED | 1,500 lb (680 kg)/2 months
| OA | South of 34°27′ N lat | 500 lb/2 months | CLOSED | 500 lb (227 kg)/2 months
Option 2: Increased Trip Limits | LE | 40°10′ to 34°27′ N lat | 1,500 lb (680 kg)/2 months |  |  | 6,000 lb (2,722 kg)/2 months
| LE | South of 34°27′ N lat | 1,500 lb (680 kg)/2 months | CLOSED | 1,500 lb (680 kg)/2 months | 6,000 lb (2,722 kg)/2 months
| OA | South of 34°27′ N lat | 500 lb (227 kg)/2 months | CLOSED | 500 lb (227 kg)/2 months | 4,000 lb (1,814 kg)/2 months

In 2018, when the Council recommended bocaccio trip limits for the 2019-20 harvest specifications, bocaccio had only just been rebuilt and few data points existed to provide projected annual catch data under the current trip limits. Based on the limited data available at that time, attainment of boccacio by the non-trawl commercial fishery in 2020 was projected to be around 3.5 mt of the 1,197.8 mt non-trawl allocation.

The GMT updated the projected attainments under the current status quo trip limits (Option 1) and examined potential impacts under increased trip limits (Option 2) with additional catch data from the 2018 and 2019 fishing years. Based on updated model projections attainment of bocaccio, under the current status quo trip limits in the LEFG and OA fisheries, is projected to be 19.1 mt, or 1.5 percent of the non-trawl allocation (1,197.8 mt) and less than one percent of the bocaccio ACL (2,011 mt) for south of 40°10′ N lat. Increasing the trip limits for the LEFG and OA fisheries south of 40°10′ N lat. for the remainder of the fishing year is projected to increase attainment of bocaccio for the LEFG and OA fisheries by 39.7 mt over Option 1, and the overall attainment of bocaccio is projected to increase from 162.1 mt, or 13.5 percent, to 201.8 mt, or 16.8 percent, of the non-trawl HG and 10 percent of the ACL south of 40°10′ N lat. (Table 2).

Table 2—Projected Mortality for Status Quo and Option 2 Trip Limits for the LEFG and OA Sectors Targeting Bocaccio South of 40°10′ N lat
Option | Sector | Geographic area | Projected attainment (mt) | Non-trawl projected attainment (mt) | Percentage of non-trawl allocation attained | Non-trawl allocation (mt) | ACL (mt)
Option 1: Status Quo Trip Limits | LE | 40°10′ to 34°27′ N lat | 11.0 | 162.1 | 13.5 | 1,197.8 | 2,011
| LE | South of 34°27′ N lat | 2.7 |  |  |  |
| OA | South of 34°27′ N lat | 5.4 |  |  |  |
| Total |  | 19.1 |  |  |  |
Option 2: Increased Trip Limits | LE | 40°10′ to 34°27′ N lat | 23.6 | 201.8 | 16.8 |  |
| LE | South of 34°27′ N lat | 7.9 |  |  |  |
| OA | South of 34°27′ N lat | 27.3 |  |  |  |
| Total |  | 58.8 |  |  |  |

Trip limit increases for bocaccio are intended to allow for increased attainment of the non-trawl allocation (1,197.8 mt), while also providing the incentive for vessels targeting co-occurring species, such as chilipepper rockfish, to land their bocaccio catch instead of discarding. Therefore, the Council recommended and NMFS is implementing, by modifying Table 2 (South) to part 660, Subpart E, an increase to the bocaccio trip limits for the LEFG fishery south of 40°10′ N lat., and by modifying Table 3 (South) to part 660, Subpart F, an increase to the bocaccio trip limits for the OA fishery south of 40°10′ N lat.

Classification

NMFS issues tis action pursuant to section 305(d) of the Magnuson-Stevens Act. This action is required by 50 CFR 660.60(c), which was issued pursuant to section 304(b), and is exempt from review under Executive Order 12866.

The aggregate data upon which these actions are based are available for public inspection by contacting Karen Palmigiano in NMFS West Coast Region (see FOR FURTHER INFORMATION CONTACT, above), or view at the NMFS West Coast Groundfish website: http://www.westcoast.fisheries.noaa.gov/fisheries/groundfish/index.html.

Pursuant to 5 U.S.C. 553(b), NMFS finds good cause to waive prior public notice and an opportunity for public comment on this action, as notice and comment would be impracticable and contrary to the public interest. The adjustments to bocaccio management measures in this document ease restrictive trip limits on commercial fisheries in California to allow fisheries to harvest more fish while still staying within harvest limits. No aspect of this action is controversial, and changes of this nature were anticipated in the final rule for the 2019-2020 harvest specifications and management measures which published on December 12, 2018 (83 FR 63970).

At its June 2020 meeting, the Council recommended the increases to the commercial trip limits for the LEFG and OA sectors be implemented as soon as possible so that harvesters may be able to take advantage of these higher limits and reduce unnecessary discarding of bocaccio. Each of the adjustments to commercial management measures in this rule will create more harvest opportunity and allow fishermen to catch species that are currently under attained without causing any impacts to the fishery that were not anticipated during development of the 2019-20 biennial harvest specifications. Each of these recommended adjustments also rely on new catch data that were not available and thus not considered during the 2019-2020 biennial harvest specifications process. New catch information through the end of the 2019 fishing year used to inform model projections estimates that attainment of bocaccio will again be very low in 2020 and, even with these increases to trip limits, sectors are unlikely to come close to attaining their shares of the bocaccio ACL. These adjustments to management measures could provide up to an additional $189,000 in ex-vessel revenue to harvesters and would reduce the unnecessary discarding of bocaccio. Additional economic benefits would also be seen for processors and the fishing support businesses; however, these are more difficult to quantify. Delaying implementation to allow for public comment would likely reduce the economic benefits to the commercial fishing industry and the businesses that rely on that industry. If the notice and comment rulemaking process took 90 days to complete, the increase would not be in place until October when the majority of the fishing year is over. Therefore, providing a comment period for this action could significantly limit the economic benefits to the fishery, and would hamper the achievement of optimum yield from the affected fisheries.

The NMFS finds reason to waive the 30-day delay in effectiveness pursuant to 5 U.S.C. 553(d)(1) so that this final rule may become effective upon publication in the Federal Register. The adjustments to management measures in this document affect commercial fisheries by increasing opportunity and relieving participants of the more restrictive trip limits. These adjustments were requested by the Council's advisory bodies, as well as members of industry during the Council's June 2020 meeting, and recommended unanimously by the Council. No aspect of this action is controversial, and changes of this nature were anticipated in the biennial harvest specifications and management measures established through a notice and comment rulemaking for 2019-2020 (82 FR 63970; December 12, 2018).

List of Subjects in 50 CFR Part 660

Fisheries, Fishing, and Indian fisheries.

Dated: July 15, 2020.
Hélène M.N. Scalliet,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Table 2 (South) to part 660, subpart E is revised to read as follows:

BILLING CODE 3510-22-P

3. Table 3 (South) to part 660, subpart F is revised to read as follows:

[FR Doc. 2020-15629 Filed 7-17-20; 8:45 am]

BILLING CODE 3510-22-C